FEDERAL COMMUNICATIONS COMMISSION

[GN Docket No. 19-329; FR ID 189297]

Federal Advisory Committee Act; Task Force for Reviewing the Connectivity and Technology Needs of Precision Agriculture in the United States

ACTION: Notice of renewal.

SUMMARY: The Federal Communications Commission (FCC or Commission) hereby announces that the charter of the Task Force for Reviewing the Connectivity and Technology Needs of Precision Agriculture in the United States (the Task Force) has been renewed for a period expiring on January 1, 2025, pursuant to the Federal Advisory Committee Act (FACA) and after consultation with the Committee Management Secretariat, General Services Administration.

ADDRESSES: Federal Communications Commission, 45 L Street NE, Washington, DC 20554.

FOR FURTHER INFORMATION CONTACT: Christi Shewman, Designated Federal Officer, Federal Communications Commission, Wireline Competition Bureau, (202) 418-0646, or email: christi.shewman@fcc.gov; Thomas Hastings, Deputy Designated Federal Officer, Federal Communications Commission, Wireless Telecommunications Bureau, (202) 418-1343, or email thomas.hastings@fcc.gov; or Emily Caditz, Deputy Designated Federal Officer, Wireline Competition Bureau, (202) 418-2268 or email emily.caditz@fcc.gov.

SUPPLEMENTARY INFORMATION: The Chairwoman of the Commission, as required by Section 12511 of the Agriculture Improvement Act of 2018, Public Law 115-334, 132 Stat 4490, has taken appropriate steps to renew the Task Force, which Congress has deemed necessary and in the public interest. After consultation with the General Services Administration, the Commission renewed the charter on November 29, 2023, providing the Task Force with authorization to operate until January 1, 2025.

In consultation with the Secretary of Agriculture (Secretary), or a designee of the Secretary, and in collaboration with public and private stakeholders in the agriculture and technology fields, the purpose of the Task Force is to: identify and measure current gaps in the availability of broadband internet access service on agricultural land; develop policy recommendations to promote the rapid, expanded deployment of broadband internet access service on unserved agricultural land, with a goal of achieving reliable capabilities on 95 percent of agricultural land in the United States by 2025; promote effective policy and regulatory solutions that encourage the adoption of broadband internet access service on farms and ranches and promote precision agriculture; recommend specific new rules or amendments to existing rules of the Commission that the Commission should issue to achieve the goals and purposes of the policy recommendations described in the second item in this list; recommend specific steps that the Commission should take to obtain reliable and standardized data measurements of the availability of broadband internet access service as may be necessary to target funding support, from future programs of the Commission dedicated to the deployment of broadband internet access service, to unserved agricultural land in need of broadband internet access service; and recommend specific steps that the Commission should consider to ensure that the expertise of the Secretary and available farm data are reflected in future programs of the Commission dedicated to the infrastructure deployment of broadband internet access service and to direct available funding to unserved agricultural land where needed.

In addition, annually, the Task Force will submit to the Chairwoman of the Commission a report, which shall be made public, that details: the status of fixed and mobile broadband internet access service coverage of agricultural land; the projected future connectivity needs of agricultural operations, farmers, and ranchers; and the steps being taken to accurately measure the availability of broadband internet access service on agricultural land and the limitations of current, as of the date of the report, measurement processes.

Advisory Committee

The Task Force is organized under and operates in accordance with, the provisions of the Federal Advisory Committee Act (FACA) (5 U.S.C. app. 2). The Task Force is solely advisory in nature. Consistent with FACA and its requirements, each meeting of the Task Force will be open to the public unless otherwise noticed. A notice of each meeting will be published in the Federal Register at least fifteen (15) days in advance of the meeting. Records will be maintained of each meeting and made available for public inspection. All activities of the Task Force will be conducted in an open, transparent, and accessible manner. The Task Force shall terminate on January 1, 2025, as required by Agriculture Improvement Act of 2018, Public Law 115-334, 132 Stat 4490, sec. 12511(b)(6). All meeting dates and agenda topics will be described in a Public Notice issued and published in the Federal Register at least fifteen (15) days prior to the first meeting date. In addition, working groups or subcommittees (ad hoc or steering), will continue to facilitate the Task Force's work between meetings of the full Task Force. Meetings of the Task Force will be fully accessible to individuals with disabilities.

Accessible Formats: To request materials in accessible formats for people with disabilities (Braille, large print, electronic files, audio format), send an email to fcc504@fcc.gov or call the Consumer and Governmental Affairs Bureau at (202) 418-0530 (voice).

(5 U.S.C. App 2 10(a)(2))

Federal Communications Commission.
Jodie May,
Division Chief, Competition Policy Division, Wireline Competition Bureau.

[FR Doc. 2023-27071 Filed 12-8-23; 8:45 am]

BILLING CODE 6712-01-P